DEPARTMENT OF AGRICULTURE

Forest Service

Andrew Pickens Ranger District, Sumter National Forest, South Carolina; Supplement to the 2013 AP Loblolly Pine Removal and Restoration Project

AGENCY: Forest Service, USDA.

ACTION: Notice of intent to prepare a Supplemental Environmental Impact Statement for the AP Loblolly Pine Removal and Restoration Project.

SUMMARY: The USDA Forest Service is preparing a Supplemental Environmental Impact Statement (SEIS) for the AP Loblolly Pine Removal and Restoration Project. The purpose of this project is to restore native vegetation typical of the Southern Appalachian Mountains in areas that were planted to non-native loblolly pine plantations in the 1970s. A number of vegetative treatments have been implemented since the Final Environmental Impact Statement was completed and the Record of Decision was signed in 2013. Implementation monitoring and field reviews indicate that some changes are needed to the original decision.

DATES: Scoping comments for this supplement must be received by April 27, 2018. The Draft Supplemental Environmental Impact Statement (DSEIS) is expected in June 2018, and the Final Supplemental Environmental Impact Statement (FSEIS) is expected in October 2018.

ADDRESSES: Send written comments to USDA Forest Service, 112 Andrew Pickens Circle, Mountain Rest, South Carolina 29664. Comments may also be sent via email to comments-southern-francismarion-sumter-andrewpickens@fs.fed.us, or via facsimile to 864-638-2659.

FOR FURTHER INFORMATION CONTACT: Robbie Sitzlar (rsitzlar@fs.fed.us) and/or Victor Wyant (vwyant@fs.fed.us), 864-638-9568.

Individuals who use telecommunication devices for the deaf (TDD) may call the Federal Information Relay Service (FIRS) at 1-800-877-8339 between 8 a.m. and 8 p.m., Eastern Time, Monday through Friday.

SUPPLEMENTARY INFORMATION: In May 2013, the Final Environmental Impact Statement for the AP Loblolly Pine Removal and Restoration Project (2013 FEIS) was completed and a Record of Decision (2013 ROD) was signed by the Andrew Pickens District Ranger on May 22, 2013. The 2013 FEIS and 2013 ROD along with other supporting documents are available at: https://www.fs.usda.gov/project/?project=28634. These documents include descriptions of the purpose and need for the project and the three alternatives that were evaluated. Alternative 3 was selected by the Responsible Official for implementation. Since the 2013 ROD was signed, a number of timber sale units have been logged and subsequent implementation monitoring and field reviews indicate a need to make some changes to the decision.

Purpose and Need for Action

Additions to the purpose and need for action are based on project implementation monitoring and field reviews, as described below.

1. Field reviews have identified 1,330 acres of new loblolly stands that were not addressed in the 2013 FEIS. These stands need to be restored to native forest species appropriate for the ecological zone and loblolly pine (a non-native species) needs to be eliminated as a long term seed source.

2. Since the 2013 ROD was signed, 902 acres of loblolly stands have become commercially viable and/or have road access to them that was not available at the time of the original decision. There is a need to recover any economic value in trees to be harvested prior to restoration of native forest vegetation.

3. As a non-native species in the Southern Appalachian Mountains, loblolly pine has proven to be an aggressive competitor and seed stored in the soil germinates prolifically following harvest and hampers establishment of native forest vegetation. The herbicides currently approved for use have proven effective for hardwood control but ineffective at controlling loblolly pine regeneration. There is a need to include both prescribed burning and herbicides as site preparation treatments that are more effective at controlling loblolly pine regeneration. This would facilitate restoration of desirable native pine and hardwood species on appropriate ecological types.

4. Implementation monitoring indicates that undesirable understory hardwoods (such as red maple, sweetgum, blackgum, rhododendron, and mountain laurel) are well-established in some stands. The lack of periodic fire has allowed these species to become dominant and persistent in the understory at levels not typical for their ecological zone. In addition, past Southern pine beetle activity that killed portions of the overstory loblolly pine has also resulted in these hardwood species gaining dominance of the site at the exclusion of other desirable species such as oaks, hickories, and native pines. Loblolly pine regeneration is also present and needs to be eliminated from the stand. There is a need to treat undesirable hardwood and loblolly pine understories prior to timber harvest in some areas to facilitate reestablishment of native forest vegetation.

5. Ecological classification mapping for the district has been updated since the 2013 ROD was signed. This new information has been used to help identify potentially suitable areas for woodland management. Also, establishment of woodland areas has proven to be more labor intensive than was originally thought. There is a need to reduce the total number of acres managed as woodlands and to use ecological mapping to identify areas suitable for woodland management. This would result in some woodland areas being changed to regeneration harvest and some new areas selected for woodland management. In some cases, stands selected for woodland management contain desirable hardwood species such as oak and hickory but lack sufficient native pine species typical of the ecological zone. Woodland areas should contain a variety of ecologically suitable species of native pines (that include pitch pine, Table Mountain pine and shortleaf pine) and hardwoods with an open overstory and an understory dominated by herbaceous vegetation. Woodland restoration needs to include native pine species suitable to the ecological zone.

6. Implementation monitoring has shown the need to drop mitigation measure #1 from the 2013 FEIS. This mitigation measure provides for staggering some harvest units in identified small sub-watersheds to reduce timber harvesting effects on water quality. However, this mitigation measure has proven difficult to implement and has caused additional adverse environmental effects. Staggering harvest units has resulted in additional soil disturbance from roads. Instead of using a system road once during a timber sale and then putting it back into storage and allowing it to revegetate, another entry is needed a few years later resulting in additional disturbance in the watershed. In addition, there is an increased risk of loblolly pine seeding into the newly restored unit from the adjacent uncut stand.

7. Mitigation measure # 6c would be revised to permit log trucks to cross some perennial and intermittent streams using other methods (such as low-water crossings) in addition to temporary bridges. Implementation monitoring indicates that some crossings make it impracticable to use a temporary bridge without placing fill material on the banks of the stream. This fill material has the potential to be a sediment source once the temporary bridge is removed. The revised mitigation would require consultation with Forest Service resource specialists prior to proceeding with other crossing methods. The intent is to choose the best form of crossing to protect soil and water resources.

8. A mitigation measures would be added to protect residual trees during site preparation prescribed burn treatments and another mitigation measure would be added to require hand fireline construction near streams.

Proposed Action

The proposed action includes adding about 1,330 acres of new loblolly stand treatments, modifying loblolly treatments on 902 acres from pre-commercial to commercial treatments, reducing the acres to be managed as woodlands, adding planting of native pines in woodlands, adding two herbicides (that are already approved for Forest Service use) to more effectively manage understory vegetation, adding prescribed fire, and modifying or adding mitigation measures to protect resources.

Regeneration Harvest, with Reserves (cut-and-remove): Commercial timber harvest would occur on an additional 1,330 acres. Unmerchantable loblolly pine and other undesirable species would be cut down by manual (saws, hand tools) or mechanized felling equipment. In addition, to cutting loblolly pine, harvest would also include Virginia pine, white pine, red maple, sourwood, blackgum, mountain laurel, rhododendron, yellow-poplar and other less desirable hardwoods. The intent of cutting from these associated species is to limit their abundance and achieve a mix of species typical of natural forest conditions. Desirable dominant and co-dominant oaks, hickories, shortleaf pine, Table Mountain pine, and pitch pine of good vigor would be retained where possible unless removal is necessary for safety or for equipment operability reasons. Site-preparation treatments would be implemented prior to tree planting. Shortleaf pine, Table Mountain pine, and pitch pine would be planted on some sites; densities would vary based on residual desirable species, site quality and consideration of the ecological zone for each stand.

Regeneration Harvest, with Reserves (treatments changed from cut and leave to cut and remove): Commercial timber harvest would occur on approximately 902 acres previously designated for non-commercial treatment. Treatments would be the same as those described for Regeneration Harvest, with Reserves (cut-and-remove).

New Woodland Stands: The woodland prescription would remove all loblolly pine and undesirable tree species including but not limited to Virginia pine, white pine, maples, and yellow poplar on 188 acres. The treatment would include thinning oaks, hickories, and shortleaf pine if necessary to a 30 to 60% canopy cover. Maintenance treatments could include prescribed burning, herbicide, manual, and mechanical methods as needed to achieve the desired species composition. Manual and mechanical methods include hand tools (chainsaws, brush saws), and/or heavy equipment (tractor with mower, gyro-track that grind up or masticate undesirable understory vegetation). Herbicides in combination with a surfactant and spray pattern indicator would also be used to control undesirable understory vegetation. Herbicides would be applied manually (between the first of July and the end of September) via directed foliar or cut surface application methods.

Stands Changed from Woodland Treatments to Regeneration Harvest, with Reserves (cut-and-remove): Commercial timber harvest would occur on approximately 282 acres. Treatments would be the same as those described for Regeneration Harvest, with Reserves (cut-and-remove).

Woodlands Planted with Native Pines: The proposed action would include the option to plant pitch pine, Table Mountain pine and shortleaf pine to supplement species diversity in newly established woodland areas (631 acres). Planting would be done manually in small patches and densities would be based on the number needed to meet woodland ecological objectives for the site.

Additional Site Preparation Treatments: The supplement would include the addition of site-preparation prescribed burning and two new herbicides that are more effective at controlling loblolly pine regeneration.

Prescribed Burning Treatment: Site-preparation burning would be used to control loblolly regeneration typically in the first growing season following harvest in regeneration stands (4,369 acres). It would also be used to reduce competition from Virginia pine, white pine, and undesirable hardwoods. Firelines would utilize natural features as practicable such as streams or constructed features such as roads. Dozer and hand constructed firelines would be needed in some places to contain the prescribed fire. Stands that overlap with larger landscape prescribed burn blocks may be burned in the growing season or dormant season subject to landscape scale burning objectives. Burning would be done manually with drip torches or with aerial ignition (i.e., helicopter).

Herbicide Treatments: Chemical site preparation would be used in stands that are not prescribe burned or where burning does not have the anticipated effect at controlling competition. Glyphosate and aminopyralid herbicides would be added to the existing herbicides to control regenerating loblolly pine seedlings and undesirable species as needed in order to achieve native species composition. Herbicides would be applied manually using the foliar or hack-n-squirt methods. In addition, pre-harvest site-preparation herbicide treatments may be used to control mid and understory species composition in all regeneration areas.

Changes to Mitigation Measures: Mitigation measure #1 which required staggering of harvest units in some watersheds would be dropped and instead reliance would be placed on adherence to “South Carolina's Best Management Practices for Forestry and National Best Management Practices for Water Quality Management on National Forest System Lands” and standards in the Revised Land and Resource Management Plan Sumter National Forest (Forest Plan).

Mitigation measure # 6c would be revised to allow log trucks to cross perennial and intermittent streams using other methods (low-water crossing) in addition to temporary bridges as deemed practicable and effective at resource protection with approval from Forest Service specialists. Crossings would adhere to BMPs and the Forest Plan.

A new mitigation measure would be added to protect residual trees in harvest units during prescribed burn activities. Protection measures could include manual and mechanical removal of logging slash from under the drip-line to the base of residual trees. A new mitigation measure would be added to protect streams by requiring hand fireline construction within 100 feet of streams when deemed necessary during prescribed burning.

Additional Forest Service System Road Reconstruction and Maintenance: Road reconstruction and maintenance would be needed on an additional 9.4 miles of existing Forest Service system roads. Reconstruction work would consist of but not be limited to graveling road surfaces, replacing culverts—including replacements for aquatic organism passage, ditch cleaning, removing brush and trees along road rights-of-way, installing, repairing or replacing gates and correcting road safety hazards. Road maintenance would consist of but not be limited to spot gravel replacement, blading, cleaning culverts, brushing and mowing.

Temporary Roads: Approximately 12 miles of additional temporary roads would be used to access stands. Temporary roads would be closed and the area returned to resource production after the access is no longer needed.

Fireline Construction: Approximately 8 miles of dozer fireline would be needed for site preparation burning treatments. Typically, constructed line would not be needed to control fire during the growing season site preparation burning, but key locations would need it (such as along private land boundaries next to residences). Additional information including maps on the proposed action are located at the following website: https://www.fs.usda.gov/project/?project=53047.

Responsible Official

Andrew Pickens District Ranger, Sumter National Forest

Nature of Decision To Be Made

Whether or not to implement the Proposed Action or continue to implement the 2013 ROD.

Scoping Process

This Notice of Intent initiates the scoping process, which guides the development of the SEIS. We are inviting you to submit comments to help refine the proposed action. In addition, the Responsible Official is currently preparing an environmental analysis of the proposed action and needs your assistance to better identify issues, concerns and opportunities. Pursuant to 36 CFR 218.7(a)(2), this proposed project implements the land management plan and is subject to 36 CFR 218 subparts A and B.

Specific written comments as defined by § 218.2 should be within the scope of the proposed action, have a direct relationship to the proposed action, and must include supporting reasons for the Responsible Official to consider. It is the responsibility of all individuals and organizations to insure that their comments are received in a timely manner.

A notice and comment period will be provided at a future date (§ 218.24). Only those that respond to this request for comments will remain on the mailing list for this project.

It is important that reviewers provide their comments at such times and in such manner that they are useful to the agency's preparation of the environmental impact statement. Therefore, comments should be provided prior to the close of the comment period and should clearly articulate the reviewer's concerns and contentions.

Comments received in response to this solicitation, including names and addresses of those who comment, will be considered part of the public record on these proposed actions and will be available for public inspection. Comments submitted anonymously will be accepted and considered; however, anonymous comments will not provide the agency with the ability to provide the respondent with subsequent environmental documents.

Dated: February 28, 2018.
Chris French,
Associate Deputy Chief, National Forest System.

[FR Doc. 2018-06132 Filed 3-27-18; 8:45 am]

BILLING CODE 3411-15-P